DEPARTMENT OF HEALTH AND HUMAN SERVICES

Centers for Disease Control and Prevention

Stakeholders Meeting To Provide Updates on NIOSH-Funded Research, Certification and Standards, Educate Participants on Resources To Reinforce the Proper Use of NIOSH-Certified Respirators, and Explore Personal Protective Technology Use in Industry Sectors

AGENCY: National Institute for Occupational Safety and Health (NIOSH), Centers for Disease Control and Prevention (CDC), Department of Health and Human Services (HHS).

ACTION: Notice of a public meeting.

SUMMARY: The National Institute for Occupational Safety and Health (NIOSH), Personal Protective Technology (PPT) Program and National Personal Protective Technology Laboratory (NPPTL) will conduct a stakeholders meeting to provide updates on NIOSH-funded research, certification and standards, educate participants on resources to reinforce the proper use of NIOSH-certified respirators, and explore personal protective technology use in industry sectors. In addition, conformity assessment (certification and standards) needs and gaps relative to the personal protective technology will be discussed at this meeting.

DATES: The public meeting will be held 8 a.m. to 5 p.m., March 29, 2011.

ADDRESSES: The public meeting will be held at Hyatt Regency Pittsburgh International Airport, 1111 Airport Boulevard, Pittsburgh, PA 15231, telephone 724-899-1234.

FOR FURTHER INFORMATION CONTACT: Ed Fries, NPPTL, Office of the Director, P.O. Box 18070, Pittsburgh, PA 15236, telephone 412-386-6111, fax 412-386-4951, E-mail npptlevents@cdc.gov.

SUPPLEMENTARY INFORMATION: Status: The meeting will be open to the public, limited only by the space available. The meeting room accommodates approximately 200 people. Preregistration is recommended. This meeting will also be available through remote access capabilities (Microsoft Live Meeting), whereby participants simultaneously listen and view presentations over the internet. This option will be available to participants on a first-come, first-serve basis and is limited to the first 100 participants. Preregistration for this option is required.

Instructions: Registration and additional Information is available on the NIOSH NPPTL Web site, http://www.cdc.gov/niosh/npptl or by contacting NIOSH NPPTL Office of the Director, P.O. Box 18070, Pittsburgh, PA 15236, telephone 412-386-6111, fax 412-386-6617, E-mail npptlevents@cdc.gov.

Background: While this meeting will highlight the personal protective technology related to the four industries, the information and technology is relevant and can be transferred to other industries.

Discussions will highlight the following four occupational sectors:

1. Agriculture—Discussions will focus on identifying solutions to major barriers for appropriate PPE use practices that occur in pesticide handling in agricultural crop production. Discussions will use a process flow approach for focusing on each of the critical stages for PPE use in pesticide handling. Potential barriers and regulations, such as those identified from brainstorming meetings of the NIOSH PPE Surveillance and Intervention Program for Agricultural Pesticide Handlers, that may influence safe performance will be highlighted. Stakeholders will provide their input, clarify barriers and help identify solutions for future development. The goal of these discussions is to bring diverse stakeholders together to discuss barriers to appropriate PPE use and to jointly formulate and develop creative solutions.

2. Mining—One session will focus on technologies to improve current self-contained self-rescuer (SCSR) designs and mine rescue ensembles. Presentations from researchers, manufacturers, and users will focus on SCSR design improvements and technologies to address user needs. The second session will focus on best practices learned from ensemble users, performance requirements for mine rescue ensembles and identification of existing limitations and current best practices.

3. Healthcare—PPE use and usability issues in acute care and community healthcare settings and the alignment of current and recommended PPT research to narrow knowledge gaps, reduce exposures, and improve healthcare worker proper use and compliance will be emphasized. These sessions will explore respiratory protective equipment use and application issues as well as use and application issues with other types of PPE commonly used in healthcare, including integrated ensembles.

4. Public Safety—These sessions will focus on personal protective technology applications, performance/certification standards and use related to the fire service and law enforcement communities. Two breakout sessions will be conducted, one for fire service and one for law enforcement. The fire service-related breakout session will include issues and requirements related to the design, certification, inspection of firefighting personal protection ensembles, and NIOSH research supporting use of protective ensembles and respiratory protective equipment by the fire service. The law enforcement breakout session will address performance requirements and standards for law enforcement protective ensembles with a focus on CBRN hazards. The CBRN Protective Ensemble Standard for Law Enforcement released by the National Institute for Justice in late 2010 will be discussed.

Dated: December 21, 2010.
Tanja Popovic,
Deputy Associate Director for Science, Centers for Disease Control and Prevention.

[FR Doc. 2010-32964 Filed 12-29-10; 8:45 am]

BILLING CODE 4163-19-P